INTERNATIONAL TRADE COMMISSION

[USITC SE-16-031]

Government in the Sunshine Act Meeting Notice

AGENCY HOLDING THE MEETING: United States International Trade Commission.

TIME AND DATE: September 12, 2016 at 4:30 p.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-545-547 and 731-TA-1291-1297 (Final) (Hot-Rolled Steel Flat Products from Australia, Brazil, Japan, Korea, the Netherlands, Turkey, and the United Kingdom). The Commission is currently scheduled to complete and file its determinations and views of the Commission on September 26, 2016.

5. Outstanding action jackets: None.

In accordance with Commission policy, subject matter listed above, not disposed of at the scheduled meeting, may be carried over to the agenda of the following meeting. Earlier notification of this meeting was not possible.

By order of the Commission.
Issued: September 7, 2016.
William R. Bishop,
Supervisory Hearings and Information Officer.

[FR Doc. 2016-21921 Filed 9-8-16; 11:15 am]

BILLING CODE 7020-02-P